DEPARTMENT OF ENERGY

Federal Energy Regulatory Commission

[Project No. P-11841-002]

Ketchikan Public Utilities; Notice of Settlement Agreement and Soliciting Comments

February 11, 2008.

Take notice that the following settlement agreement has been filed with the Commission and is available for public inspection.

a. Type of Application: Settlement Agreement.

b. Project No.: P-11841-002.

c. Date Filed: February 8, 2008.

d. Applicant: Ketchikan Public Utilities.

e. Name of Project: Whitman Lake Hydroelectric Project.

f. Location: The project would be located on Whitman Creek, approximately 4 miles east of the City of Ketchikan, Alaska. The project would occupy 155.8 acres of lands of the United States, 155 acres administered by the U.S. Department of Agriculture, Forest Service and 0.8 acres administered by the U.S. Bureau of Land Management.

g. Filed Pursuant to: Rule 602 of the Commission's Rules of Practice and Procedure, 18 CFR 385.602.

h. Applicant Contact: Ms. Jennifer Soderstrom, Ketchikan Public Utilities, 2930 Tongass Avenue, Ketchikan, AK 99901, (907) 228-4733.

i. FERC Contact: Kenneth Hogan at (202) 502-8434, or Kenneth.Hogan@ferc.gov.

j. Deadline for filing comments: 20 days from the date of this notice. Reply comments are due 30 days from the date of this notice.

k. All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

l. Ketchikan Public Utilities (KPU) filed the Settlement Agreement on behalf of itself and the other signatories to the Settlement Agreement (The Alaska Department of Fish and Game, Alaska Department of Natural Resources, and Southern Southeast Region Aquaculture Association). The purpose of the Settlement Agreement was to permit and enhance the multiple uses of the water of Whitman Lake in a manner that promotes the public interest consistent with the economic viability of the power operations, the water supply features, the feasibility of the fish hatchery operations, and all commitments in existing contracts. The signatories, through KPU, request that the Commission consider the protection, mitigation, and enhancement measures outlined in the Settlement Agreement in the Final Environmental Assessment for the proposed project and that the Commission includes them in any license issued for the proposed Whitman Lake Hydroelectric Project.

m. A copy of the settlement agreement is available for review at the Commission on the Public Reference Room or may be viewed on the Commission's Web site at http://www.ferc.gov using the “eLibrary” link. Enter the docket number (P-11841) in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E8-2992 Filed 2-15-08; 8:45 am]

BILLING CODE 6717-01-P